DEPARTMENT OF STATE

Office of the Secretary

[Public Notice 4283]

Extension of the Restriction on the Use of United States Passports for Travel To, In or Through Iraq

On February 1, 1991, pursuant to the authority of 22 U.S.C. 211a and Executive Order 11295 (31 FR 10603), and in accordance with 22 CFR 51.73(a)(2) and (a)(3), all United States passports, with certain exceptions, were declared invalid for travel to, in, or through Iraq unless specifically validated for such travel. The restriction was originally imposed on the grounds that (1) armed hostilities then were taking place in Iraq and Kuwait and (2) there was an imminent danger to the safety of United States travelers to Iraq. American citizens then residing in Iraq and American professional reporters and journalists on assignment there were exempted from the restriction on the grounds that such exemptions were in the national interest. The restriction has been extended for additional one-year periods since then, and was last extended through February 25, 2003.

Conditions in Iraq remain hazardous for Americans. In an effort to compel Iraq to fulfill its obligations under UN Security Council resolutions, the United Nation has initiated an intensive inspections program. Mounting tensions between the Iraqi regime and the international community create an increasingly hazardous atmosphere for Americans in Iraq. If hostilities were to break out, the risk to Americans would be grave. The Iraqi regime has in the past demonstrated a willingness to use violence and intimidation against foreigners to pursue its foreign policy goals, and we believe it remains prepared to do so in the future.

At the outbreak of the Gulf War, the Iraqi regime took private citizens, including Americans, hostage and forced them to serve as “human shields” at strategic sites throughout Iraq. The Iraqi government has long asserted that it cannot ensure the safety of U.S. citizen United Nations humanitarian workers in Iraq, prompting the United Nations to remove them. Iraq regularly fires anti-aircraft artillery and surface-to-air missiles at U.S. and coalition aircraft patrolling the no-fly ones over northern and southern Iraq, and regularly illuminates U.S. and coalition aircraft with target-acquisition radar.

The tactics Iraq uses in the repression of its own civilian population creates a high risk to innocent bystanders. In addition, U.S. citizens and other foreigners working inside Kuwait near the Iraqi borders have been detained by Iraqi authorities in the past and sentenced to lengthy jail terms for alleged illegal entry into the country. Although our interests are represented by the Embassy of Poland in Baghdad, its ability to obtain consular access to detained U.S. citizens and to perform emergency services is constrained. In light of these circumstances, and pursuant to the authorities set forth in 22 U.S.C. 211a, Executive Order 11295, and 22 CFR 51.73, I have determined that Iraq continues to be a country where “there is imminent danger to the public health or physical safety of United States travellers”.

Accordingly, United States passports shall continue to be invalid for travel to, in or through Iraq unless specifically validated for such travel under the authority of the Secretary of State. This restriction on the validity of U.S. passports for travel to, in or through Iraq shall not apply to and journalists on assignment there.

The Public Notice shall be effective from the date it is published in the Federal Register and shall expire at midnight on February 25, 2004, unless sooner extended or revoked by Public Notice.

Dated: February 12, 2003.
Colin L. Powell,
Secretary of State, Department of State.

[FR Doc. 03-4105 Filed 2-24-03; 8:45 am]

BILLING CODE 4710-10-P